FEDERAL COMMUNICATIONS COMMISSION

Notice of Public Information Collection(s) Being Reviewed by the Federal Communications Commission; Comments Requested

October 27, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 5, 2001. If you anticipate that you will be submitting comments, but find it difficult to do so within the period of time allowed by this notice, you should advise the contact listed below as soon as possible.

ADDRESSES: Direct all comments to Les Smith, Federal Communications Commission, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Approval Number: 3060-xxxx.

Title: Section 95.1303—Authorized Locations.

Form No.: N/A.

Type of Review: New.

Respondents: Business or other for-profit, not-for-profit institutions, Farms, State, Local or Tribal government.

Number of Respondents: 15.

Estimated Time Per Response: .25 hours.

Total Annual Burden: 3.75 hours.

Total Annual Cost: No annual cost burden on respondents from either capital or start-up costs.

Needs and Uses: The rule requires anyone intending to operate a Multi-Use Radio Service (MURS) unit in a manner that could cause radio interference to the Arecibo Observatory to notify the Observatory either in writing or electronically of the geographical coordinates of the unit 45 days prior to commencing operation of the unit. The rule is needed to protect the Observatory from harmful radio interference.

Federal Communications Commission.
Magalie Roman Salas,
Secretary.

[FR Doc. 00-28354 Filed 11-3-00; 8:45 am]

BILLING CODE 6712-01-P